FEDERAL COMMUNICATIONS COMMISSION

47 CFR Part 73

[DA 01-1601; MM Docket No. 01-68; RM-10087]

Radio Broadcasting Services; Bordelonville, LA

AGENCY: Federal Communications Commission.

ACTION: Final rule.

SUMMARY: This document grants the petition for rule making filed by Bramah Broadcasting proposing the allotment of Channel 280A to Bordelonville, LA, as the community's first local aural transmission service. See 66 FR 16900 (March 28, 2001). Channel 280A is allotted to Bordelonville in compliance with the Commission's minimum distance separation requirements without the imposition of a site restriction, at coordinates 31-06-18 North Latitude and 91-54-26 West Longitude.

DATES: Effective August 20, 2001.

FOR FURTHER INFORMATION CONTACT: Victoria M. McCauley, Mass Media Bureau, and (202) 418-2180.

SUPPLEMENTARY INFORMATION: This is a synopsis of the Commission's Report and Order, MM Docket No. 01-68; adopted June 27, 2001 and released July 6, 2001. The full text of this Commission decision is available for inspection and copying during normal business hours in the FCC Reference Information Center (Room CY-A257), 445 12th Street, SW, Washington, DC. The complete text of this decision may also be purchased from the Commission's copy contractor, International Transcription Service, Inc., (202) 857-3800, 1231 20th Street, NW., Washington, DC 20036.

List of Subjects in 47 CFR Part 73

Radio broadcasting.

For the reasons discussed in the preamble, the Federal Communications Commission amends 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Louisiana, is amended by adding Bordelonville, Channel 280A.

Federal Communications Commission.
John A. Karousos,
Chief, Allocations Branch, Policy and Rules Division, Mass Media Bureau.

[FR Doc. 01-17924 Filed 7-17-01; 8:45 am]

BILLING CODE 6712-01-P